DEPARTMENT OF HOMELAND SECURITY

Federal Emergency Management Agency

[Docket ID FEMA-2020-0022]

Assistance to Firefighters Grant Program—COVID-19 Supplemental (AFG-S)

AGENCY: Federal Emergency Management Agency (FEMA), Department of Homeland Security (DHS).

ACTION: Notice of availability.

SUMMARY: On March 27, 2020, the President signed into law the Coronavirus Aid, Relief, and Economic Security Act (“CARES Act”). This bill provides $100 million for AFG-S to prevent, prepare for, and respond to coronavirus, domestically or internationally. Specifically, AFG-S funds shall be for the purchase of Personal Protective Equipment (PPE) and related supplies, including reimbursements for previously purchased PPE back to January 1, 2020. Pursuant to the Federal Fire Prevention and Control Act of 1974, as amended, the Administrator of FEMA is publishing this notice describing the AFG-S application process, deadlines, and award selection criteria. This notice explains the differences, if any, between these guidelines and those recommended by representatives of the national fire service leadership during a Criteria Development meeting, which was held April 20, 2020. The application period for the FY 2020 AFG-S Program opened on April 28, 2020, and will close on May 15, 2020, and was announced on the AFG website at: https://www.fema.gov/welcome-assistance-firefighters-grant-program, as well as at www.grants.gov.

DATES: Grant applications for AFG-S will be accepted electronically at https://go.fema.gov, from April 28, 2020, at 8:00 a.m. Eastern Standard Time through May 15, 2020, at 5:00 p.m. Eastern Standard Time.

ADDRESSES: Assistance to Firefighters Grant Branch, DHS/FEMA, 400 C Street SW, 3N, Washington, DC 20472-3635.

FOR FURTHER INFORMATION CONTACT: Catherine Patterson, Branch Chief, Assistance to Firefighters Grant Branch, 1-866-274-0960.

SUPPLEMENTARY INFORMATION: The FY 2020 AFG-S is a supplemental funding opportunity under the Assistance to Firefighters Grant Program (AFG). The AFG is one of three grant programs that constitute DHS/FEMA's focus on enhancing the safety of the public and firefighters with respect to fire and fire-related hazards. AFG-S accomplishes this by providing financial assistance directly to eligible fire departments, nonaffiliated emergency medical service (NAEMS) organizations, and State Fire Training Academies (SFTAs) for critical PPE and supplies needed to prevent, prepare for, and respond to the COVID-19 public health emergency. Applications for AFG-S will be submitted and processed online at https://go.fema.gov. Before the application period started, the FY 2020 AFG-S Notice of Funding Opportunity (NOFO) was published on the AFG website. The AFG website provides additional information and materials useful to applicants including Frequently Asked Questions. FEMA anticipates receiving 1,000-5,000 applications for AFG-S, and the ability to award approximately 1,000 grants.

Congressional Appropriations: Congress appropriated $100 million for AFG-S (Coronavirus Aid, Relief, and Economic Security (CARES) Act, Div. B (Pub. L. 116-136)). The CARES Act provides an additional amount of Federal assistance through the Assistance to Firefighters Grant Program to prevent, prepare for, and respond to coronavirus, domestically or internationally. Accordingly, the amount provided shall be for the purchase of PPE and related supplies, including reimbursements.

Allocations and Restrictions of Available Grant Funds by Organization Type:

Aggregate Cap: Awards are capped at 1 percent of the total AFG-S grant funding.

Nonaffiliated EMS (NAEMS) Organizations: Not more than 2 percent of available grant funds shall be collectively awarded to all NAEMS organization recipients.

Emergency Medical Services Providers: Not less than 3.5 percent of available grant funds shall fund emergency medical services provided by fire departments and NAEMS organizations.

State Fire Training Academies (SFTAs): Not more than 3 percent of available grant funds shall be collectively awarded to all SFTA recipients. Further, not more than $500,000 of available grant funds are eligible per applicant.

Micro Grants: The selection of the voluntary Micro Grant option (cumulative Federal funding of $3,000) for eligible activities does not impact an applicant's request or Federal participation under regional projects. Applicants who select Micro Grants as a funding opportunity choice may still apply for a regional project. Further, at least $150,000 of the available funds will be allocated toward this applicant type.

Regional Projects: A regional application is an opportunity for a Fire Department or a NAEMS organization to act as a host and apply for funding on behalf of itself and any number of other participating AFG eligible organizations (a NAEMS organization who is a host regional applicant can only host other NAEMS organizations). Fire Departments that serve as host regional applicants can apply on behalf of other eligible fire departments and NAEMS organizations within the same application. SFTAs are not eligible to apply under the regional activity. Regional activities should achieve cost effectiveness, support regional efficiency and resilience, and benefit more than one local jurisdiction (county, parish, town, township, city, or village) directly from the activities implemented with the grant funds.

Application Evaluation Criteria

Prior to making a grant award, FEMA is required by 31 U.S.C. 3321 note, 41 U.S.C. 2313, and 2 CFR 200.205 to review information available through any Office of Management and Budget (OMB) designated repositories of government-wide eligibility qualification or financial integrity information. Therefore, application evaluation criteria may include the following risk-based considerations of the applicant: (1) Financial stability; (2) quality of management systems and ability to meet management standards; (3) history of performance in managing Federal awards; (4) reports and findings from audits; and (5) ability to effectively implement statutory, regulatory, or other requirements.

Funding priorities and criteria for evaluating AFG-S applications are established by FEMA based on the recommendations from the Criteria Development Panel (CDP). The CDP is comprised of fire service professionals that make recommendations to FEMA regarding the creation of new or the modification of previously established funding priorities, as well as developing criteria for awarding grants. The content of the NOFO reflects implementation of the CDP's recommendations with respect to the priorities and evaluation criteria for awards.

The nine major fire service organizations represented on the CDP are:

• International Association of Fire Chiefs

• International Association of Fire Fighters

• National Volunteer Fire Council

• National Fire Protection Association

• National Association of State Fire Marshals

• International Association of Arson Investigators

• International Society of Fire Service Instructors

• North American Fire Training Directors

• Congressional Fire Service Institute

Review and Selection Process

AFG applications will be reviewed through a multi-phase process. All applications will be electronically pre-scored and ranked based on how well they align with the funding priorities outlined in the NOFO. Applications with the highest pre-score rankings will then be scored competitively by (no less than three) members of the Peer Review Panel process. Applications will also be evaluated through a series of internal FEMA review processes for completeness, adherence to programmatic guidelines, technical feasibility, and anticipated effectiveness of the proposed project(s). Below is the process by which applications will be reviewed.

i. Pre-Scoring Process

The application undergoes an electronic pre-scoring process based on established program priorities listed within the NOFO and answers to activity-specific questions within the online application. Application narratives are not reviewed during pre-scoring. Request details and budget information should comply with program guidance and statutory funding limitations. The pre-score is 50 percent of the total application score.

ii. Peer Review Panel Process

Applications with the highest pre-score will undergo peer review. The peer review panel is comprised of fire service representatives recommended by CDP national organizations. The panelists assess the merits of each application based on the narrative section of the application, including the evaluation elements listed in the Narrative Evaluation Criteria below. Panelists will independently score each project within the application, discuss the merits and/or shortcomings of the application with his or her peers, and document the findings. A consensus is not required. The panel score is 50 percent of the total application score.

iii. Technical Evaluation Process

The highest ranked applications are considered within the fundable range. Applications that are in the fundable range undergo both a technical review by a subject-matter expert, as well as a FEMA AFG Branch review prior to being recommended for an award. The FEMA AFG Branch will assess the request with respect to costs, quantities, feasibility, eligibility, and recipient responsibility prior to recommending an application for award. Once the technical evaluation process is complete, the cumulative score for each application will be determined and FEMA will generate a final application ranking. FEMA will award grants based on this final ranking and the statutorily required funding limitations listed in this notice and the NOFO.

Narrative Evaluation Criteria

1. Financial Need (25 Percent)

Applicants should describe their financial need and how consistent it is with the intent of the AFG-S Program. This statement should include details describing the applicant's financial distress, such as summarized budget constraints, unsuccessful attempts to secure other funding, and proving that the financial distress is out of their control.

2. Project Description and Budget (25 Percent)

The Project Description and Budget statement should clearly explain the applicant's project objectives and its relationship to the applicant's budget and risk analysis. Applicants should link the proposed expenses to operations and safety, as well as to the completion of the project's goals. Applicants should describe how their current response capabilities are impacted by COVID-19 as well as the overall rate of COVID-19 in their community. Applicants can reference data supported by the Centers for Disease Control and Prevention (CDC) through referencing state level data from the following website https://www.cdc.gov/coronavirus/2019-ncov/cases-updates/cases-in-us.html. This data will be taken into consideration when prioritizing funding.

3. Cost Benefit (25 Percent)

Applicants should describe how they plan to address the operations and personal safety needs of their organization, including cost effectiveness and sharing assets. This statement should also include details about gaining the maximum benefits from grant funding by citing reasonable or required costs, such as specific overhead and administrative costs. The applicant's request should also be consistent with their mission and identify how funding will benefit their organization and personnel.

4. Statement of Effect on Daily Operations (25 Percent)

The Statement of Effect on Operations should explain how this funding request will enhance an organization's overall effectiveness. It should address how an award will impact the daily operations and reduce an organization's risk(s). Applicants should include how frequently the requested item(s) will be used and in what capacity. Applicants should detail whether award funding will seek reimbursement of pre-award expenses related to the acquisition of eligible PPE, acquire PPE for immediate use, or acquire PPE resources to strengthen future response capabilities. Applicants will be evaluated on the current inventory of supplies, response usage of requested supplies, and anticipated future needs (i.e., actual or anticipated burn rate percentage of PPE resources).

Eligible Applicants

Fire Departments: Fire departments operating in any of the 50 States, as well as fire departments in the District of Columbia, the Commonwealth of the Northern Mariana Islands, the U.S. Virgin Islands, Guam, American Samoa, the Commonwealth of Puerto Rico, or any Federally-recognized Indian Tribe or Tribal organization.

A fire department is an agency or organization having a formally-recognized arrangement with a State, local, Tribal, or territorial authority (city, county, parish, fire district, township, town, or other governing body) to provide fire suppression to a population within a geographically fixed primary first due response area.

NAEMS organizations: NAEMS organizations operating in any of the 50 States, as well as the District of Columbia, the Commonwealth of the Northern Mariana Islands, the U.S. Virgin Islands, Guam, American Samoa, the Commonwealth of Puerto Rico, or any Federally-recognized Indian Tribe or Tribal organization.

A nonaffiliated EMS organization is an agency or organization that is a public or private nonprofit emergency medical services entity providing medical transport that is not affiliated with a hospital and does not serve a geographic area in which emergency medical services are adequately provided by a fire department.

FEMA considers the following as hospitals under the AFG-S Program:

• Clinics

• Medical centers

• Medical colleges or universities

• Infirmaries

• Surgery centers

• Any other institutions, associations, or foundations providing medical, surgical, or psychiatric care and/or treatment for the sick or injured.

State Fire Training Academies (SFTAs): An SFTA operates in any of the 50 States, as well as the District of Columbia, the Commonwealth of the Northern Mariana Islands, the U.S. Virgin Islands, Guam, American Samoa, and the Commonwealth of Puerto Rico. Applicants must be designated either by legislation or by a Governor's declaration as the sole fire service training agency within a State, territory, or the District of Columbia. The designated SFTA shall be the only agency/bureau/division, or entity within that State, territory, or the District of Columbia to be an eligible AFG-S SFTA applicant. SFTAs are limited to applying for activities that are directly associated with Personal Protective Equipment and supplies needed to respond to the COVID-19 public health emergency.

Cost Sharing and Maintenance of Effort

Grant recipients must share in the costs of the projects funded under this grant program as required by 15 U.S.C. 2229(k)(1) and in accordance with applicable Federal regulations at 2 CFR part 200, but they are not required to have the cost-share at the time of application nor at the time of award. However, before a grant is awarded, FEMA will contact potential awardees to determine whether the grant recipient has the funding in hand or if the grant recipient has a viable plan to obtain the funding necessary to fulfill the cost-sharing requirement.

In general, an eligible applicant seeking a grant shall agree to make available non-Federal funds equal to not less than 15 percent of the grant awarded. However, the cost share will vary as follows based on the size of the population served by the organization, with exceptions to this general requirement for entities serving smaller communities:

• Applicants that serve populations of 20,000 or less shall agree to make available non-Federal funds in an amount equal to not less than 5 percent of the grant awarded.

• Applicants serving areas with populations above 20,000, but not more than 1 million, shall agree to make available non-Federal funds in an amount equal to not less than 10 percent of the grant awarded.

• Applicants serving areas with populations above 1 million shall agree to make available non-Federal funds in an amount equal to not less than 10 percent of the grant awarded. The cost share for SFTAs will apply the requirements above based on the total population of the State.

Cost share of non-Federal cash is the only allowable recipient contribution for AFG-S activity. On a case-by-case basis, FEMA may allow recipients already owning assets acquired with non-Federal cash, to use the trade-in allowance/credit value of those assets as cash for the purpose of meeting the cost-share obligation. For FEMA to consider a trade-in allowance/credit value as cash, the allowance amount must be reasonable, and the allowance amount must be a separate entity clearly identified in the acquisition documents. In-kind cost share is not allowable for AFG-S.

In cases of demonstrated economic hardship, and at the request of the grant recipient, the Administrator of FEMA may waive or reduce certain recipient's AFG-S cost-share requirement or maintenance of expenditure requirement. FY 2020 AFG-S applicants must indicate at the time of application whether they are requesting a waiver and whether the waiver is for the cost-share requirement, maintenance of effort requirement, or both. The FEMA Administrator is required by statute to establish guidelines for determining what constitutes economic hardship. FEMA has published these guidelines at FEMA's website: https://www.fema.gov/media-library-data/1518026897046-483d76a37022b8a581ffb7d42fa9b17e/Eco_Hardship_Waiver_FPS_SAFER_AFG_IB_FINAL.pdf.

Prior to the start of the FY 2020 AFG-S application period, FEMA conducted applicant workshops and/or internet webinars to inform potential applicants AFG-S. In addition, FEMA provided applicants with information at the AFG website: https://www.fema.gov/welcome-assistance-firefighters-grant-program to help them prepare quality grant applications. The AFG Help Desk is staffed throughout the application period to assist applicants with the automated application process as well as assistance with any questions.

Applicants can reach the AFG Help Desk through a toll-free telephone number during normal business hours (1-866-274-0960) or electronic mail at firegrants@fema.dhs.gov.

Application Process

Organizations may submit one application per application period in each of the three AFG program activities (e.g., one application for Operations and Safety, and/or a separate application to be a Joint/Regional Project host). If an organization submits more than one application for any single AFG program activity (e.g., two applications for Operations and Safety, two for Joint/Regional Project, etc.), either intentionally or unintentionally, both applications may be disqualified.

Applicants can access the grant application electronically at https://portal.fema.gov. The application is also accessible from the U.S. Fire Administration's website http://www.usfa.fema.gov and http://www.grants.gov. New applicants must register and establish a username and password for secure access to the grant application. Previous AFG grant applicants must use their previously established username and passwords.

Applicants must answer questions about their grant request that reflect the AFG-S funding priorities, described above. In addition, each applicant must complete a separate narrative for each project or grant activity requested. Grant applicants will also provide relevant information about their organization's characteristics, call volume, and existing organizational capabilities.

System for Award Management (SAM)

Per 2 CFR 25.200, all Federal grant applicants and recipients must register in https://SAM.gov. SAM is the Federal Government's System for Awards Management, and registration is free of charge. Applicants must maintain current information in SAM that is consistent with the data provided in their AFG-S grant application and in the Dun & Bradstreet (DUNS) database. FEMA may not accept any application, process any awards, and consider any payment or amendment requests, unless the applicant or grant recipient has complied with the requirements to provide a valid DUNS number and an active SAM registration. The grant applicant's banking information, EIN, organization/entity name, address, and DUNS number must match the same information provided in SAM.

Pete Gaynor,
Administrator, Federal Emergency Management Agency.

[FR Doc. 2020-10044 Filed 5-11-20; 8:45 am]

BILLING CODE 9111-64-P